DEPARTMENT OF THE TREASURY

Submission for OMB Review; Comment Request

March 28, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000,1750 Pennsylvania Avenue, NW., Washington, DC 20220.

DATES: Written comments should be received on or before May 2, 2005 to be assured of consideration.

Financial Management Service (FMS)

OMB Number: 1510-0061.

Regulation Number: PL-101-453.

Type of Review: Extension.

Title: “CMIA” Annual Report and Interest Calculation Cost Claims.

Description: PL 101-453 requires that States and Territories must report interest liabilities for major Federal assistant programs annually. States and Territories may report interest calculation cost claims for compensation of administrative costs.

Respondents: Federal Government, State, Local, or Tribal Government.

Estimated Number of Respondents: 56.

Estimated Burden Hours Per Respondent: 403 Hours.

Frequency of Response: Recordkeeping Annually.

Estimated Total Reporting Burden: 22,579 Hours.

Clearance Officer: Jiovannah L. Diggs, (202) 874-7662, Financial Management Service, Administrative Programs Division, Records and Information Management Program, 3700 East West Highway, Room 144, Hyattsville, MD 20782.

OMB Reviewer: Joseph F. Lackey, Jr., (202) 395-7316, Office of Management and Budget, Room 10235, New Executive Office Building, Washington, DC 20503.

Christopher L. Davis,
Treasury PRA Assistant.

[FR Doc. 05-6365 Filed 3-30-05; 8:45 am]

BILLING CODE 4810-35-P